DEPARTMENT OF TRANSPORTATION

Coast Guard

33 CFR Part 117

[CGD01-01-204]

Drawbridge Operation Regulations: Jamaica Bay and Connecting Waterways, NY

AGENCY: Coast Guard, DOT.

ACTION: Notice of temporary deviation from regulations.

SUMMARY: The Commander, First Coast Guard District, has issued a temporary deviation from the drawbridge operation regulations for the Beach Channel Railroad Bridge, mile 6.7, across Jamaica Bay in Queens County, New York. This temporary deviation will allow the bridge to remain in the closed position at various times between December 1, 2001 and December 20, 2001. This temporary deviation is necessary to facilitate structural repairs at the bridge.

DATES: This deviation is effective from December 1, 2001 through December 20, 2001.

FOR FURTHER INFORMATION CONTACT: Joseph Schmied, Project Officer, First Coast Guard District, at (212) 668-7195.

SUPPLEMENTARY INFORMATION: The Beach Channel Railroad Bridge has a vertical clearance in the closed position of 26 feet at mean high water and 31 feet at mean low water. The existing regulations require the draw to open on signal at all times; however, a temporary final rule was published on May 31, 2001, (66 FR 29483) entitled Drawbridge Operation Regulations Jamaica Bay and connecting waterways, New York. Under this temporary final rule the bridge owner was allowed to require a twenty-four hours advance notice for openings from May 18, 2001 through November 30, 2001, to facilitate structural maintenance at the bridge.

The bridge owner, New York City Transit, has requested a temporary deviation from the drawbridge operating regulations to facilitate additional structural maintenance at the bridge.

Additional deteriorated structural components were discovered during the approved maintenance repairs authorized under the existing temporary final rulemaking in effect until November 30, 2001. The nature of the required additional structural repairs will require the bridge to be closed to navigation and rail traffic during the implementation of this work.

This deviation to the operating regulations will allow the bridge to remain in the closed position during the following time periods: 6 a.m. December 03 through 9 p.m. December 06, 2001, 6 a.m. December 10 through 9 p.m. December 13, 2001, 6 a.m. December 17 through 9 p.m. December 20, 2001.

This deviation from the operating regulations is authorized under 33 CFR 117.35, and will be performed with all due speed in order to return the bridge to normal operation as soon as possible.

Dated: November 2, 2001.
G. N. Naccara,
Rear Admiral, U.S. Coast Guard, Commander, First Coast Guard District.

[FR Doc. 01-29760 Filed 11-29-01; 8:45 am]

BILLING CODE 4910-15-U